DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

TIME AND DATE: January 19, 2021, 10:00 a.m.

PLACE: Open to the public via audio Webcast only.¹

¹ Join FERC online to listen live at http://ferc.capitolconnection.org/.

STATUS: OPEN.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1074th—Meeting—Open Meeting
[January 19, 2021 10:00 a.m.]
Item No. | Docket No. | Company
ADMINISTRATIVE
A-1 | AD21-1-000 | Agency Administrative Matters
A-2 | AD21-2-000 | Customer Matters, Reliability, Security and Market Operations
ELECTRIC
E-1 | RM20-10-000 | Electric Transmission Incentives Policy Under Section 219 of the Federal Power Act.
E-2 | Omitted |
E-3 | EL21-7-000 | Cricket Valley Energy Center, LLC and Empire Generating Company, LLC v. New York Independent System Operator, Inc.
E-4 | RR19-7-001 | North American Electric Reliability Corporation.
E-5 | RM21-12-000 | Revisions to Regulations on Electric Reliability Organization Performance Assessments.
E-6 | RM21-11-000 | Accounting and Reporting Treatment of Certain Renewable Energy Assets.
E-7 | AC20-103-000 | Locke Lord LLP.
E-8 | ER20-3040-001; ER20-3042-000; ER20-3042-001; ER20-3043-001; ER20-3044-001; ER20-3045-001; (not consolidated) | Southwestern Electric Power Company.
E-9 | Omitted |
E-10 | Omitted |
E-11 | Omitted |
E-12 | Omitted |
E-13 | Omitted |
E-14 | Omitted |
E-15 | AD20-9-000 | Hybrid Resources.
E-16 | Omitted |
E-17 | EL20-30-001 | Indiana Municipal Power Agency, and City of Lawrenceburg, Indiana v. PJM Interconnection, L.L.C., American Electric Power Service Corp., and Lawrenceburg Power, LLC.
| EL20-56-001 | PJM Interconnection, L.L.C.
E-18 | Omitted |
E-19 | EL16-49-004 | Calpine Corporation, Dynegy Inc., Eastern Generation, LLC, Homer City Generation, L.P., NRG Power Marketing LLC, GenOn Energy Management, LLC, Carroll County Energy LLC, C.P. Crane LLC, Essential Power, LLC, Essential Power OPP, LLC, Essential Power Rock Springs, LLC, Lakewood Cogeneration, L.P., GDF SUEZ Energy Marketing NA, Inc., Oregon Clean Energy, LLC, and Panda Power Generation Infrastructure Fund, LLC v. PJM Interconnection, L.L.C.
| ER18-1314-007; ER18-1314-008; EL18-178-004; (Consolidated) | PJM Interconnection, L.L.C.
E-20 | EL16-49-006 | Calpine Corporation, Dynegy Inc., Eastern Generation, LLC, Homer City Generation, L.P., NRG Power Marketing LLC, GenOn Energy Management, LLC, Carroll County Energy LLC, C.P. Crane LLC, Essential Power, LLC, Essential Power OPP, LLC, Essential Power Rock Springs, LLC, Lakewood Cogeneration, L.P., GDF SUEZ Energy Marketing NA, Inc., Oregon Clean Energy, LLC, and Panda Power Generation Infrastructure Fund, LLC v. PJM Interconnection, L.L.C.
| EL18-178-006, ER18-1314-010 | PJM Interconnection, L.L.C.
GAS
G-1 | RP21-38-000 | Northern Border Pipeline Company.
G-2 | Omitted |
G-3 | RP21-216-000 | Driftwood Holdings LLC and Driftwood LNG LLC.
G-4 | RP20-608-002 | ANR Pipeline Company.
G-5 | Omitted |
HYDRO
H-1 | RM21-9-000 | Financial Assurance Measures for Hydroelectric Projects.
H-2 | Omitted |
H-3 | P-2299-082, P-14581-002 | Turlock Irrigation District and Modesto Irrigation District.
H-4 | Omitted |
H-5 | Omitted |
H-6 | Omitted |
H-7 | P-2660-030 | Woodland Pulp LLC.
H-8 | P-2486-088 | Wisconsin Electric Power Company.
Certificates
C-1 | RM21-10-000 | Categorical Exclusions under the National Environmental Policy Act.
C-2 | CP20-466-000 | New Fortress Energy LLC.
C-3 | CP15-17-005 | Sabal Trail Transmission, LLC.
C-4 | Omitted |
C-5 | Omitted |
C-6 | Omitted |
C-7 | CP16-454-002 | Rio Grande LNG, LLC.
C-8 | CP16-9-011 | Algonquin Gas Transmission, LLC, Maritimes & Northeast Pipeline, LLC.
C-9 | CP20-48-000 | Iroquois Gas Transmission System, L.P.
C-10 | CP20-47-000 | PennEast Pipeline Company, LLC.
C-11 | CP21-12-000 | Mountain Valley Pipeline, LLC.
C-12 | CP20-459-000 | Golden Pass LNG Terminal LLC.
C-13 | CP16-10-000 | Mountain Valley Pipeline, LLC.
C-14 | RM20-15-001 | Limiting Authorizations to Proceed with Construction Activities Pending Rehearing.
C-15 | CP20-518-000 | PennEast Pipeline Company, LLC.
C-16 | CP17-494-003, CP17-495-003 | Pacific Connector Gas Pipeline, LP, Jordan Cove Energy Project L.P.
C-17 | Omitted |
C-18 | CP17-40-005 | Spire STL Pipeline LLC.
C-19 | CP16-10-008 | Mountain Valley Pipeline, LLC.

Issued: January 12, 2021.
Kimberly D. Bose,
Secretary.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2021-01039 Filed 1-13-21; 11:15 am]

BILLING CODE 6717-01-P